DEPARTMENT OF THE INTERIOR

Bureau of Land Management

[NM-910-04-1020-PH]

New Mexico Resource Advisory Council, Notice of Call for Nominations

AGENCY: Bureau of Land Management, Department of the Interior.

ACTION: Notice of public meeting.

SUMMARY: In accordance with the Federal Land Policy and Management Act and the Federal Advisory Committee Act of 1972, the U.S. Department of the Interior, Bureau of Land Management, New Mexico Resource Advisory Council (RAC) will meet as indicated below.

DATES: The meeting will be held on September 14-15, 2004, beginning at 8 a.m. at the Inn of Loretto, 211 Old Santa Fe Trail, Santa Fe, New Mexico. The meeting will adjourn at approximately 5 p.m. on Tuesday, September 14, 2004, and 3:30 p.m. on Wednesday, September 15, 2004. The two established RAC working groups may have a late afternoon or an evening meeting on Tuesday, September 14, 2004. An optional field trip is planned for Monday, September 13, 2004, at 12:30 p.m.

The public comment period is scheduled for Monday, September 14, 2004, from 6-7 p.m. The public may present written comments to the RAC. Depending on the number of persons wishing to comment and time available, individual oral comments may be limited.

FOR FURTHER INFORMATION CONTACT: Theresa Herrera, New Mexico State Office, Office of External Affairs, Bureau of Land Management, P.O. Box 27115, Santa Fe, New Mexico 87502-0115, 505.438.7517.

SUPPLEMENTARY INFORMATION: The 15-member RAC advises the Secretary of the Interior, through the Bureau of Land Management, on a variety of planning and management issues associated with public land management in New Mexico. All meetings are open to the public. At this meeting, topics for discussion include: Sierra/Otero Mesa Counties Fluid Mineral Leasing Plan Amendment, directional drilling of oil and gas wells to mitigate surface impacts, follow-up on rancher monitoring, discussion on the Ecological Site Description Effort, Interim Guidelines for Special Status Species Plan Amendment, the Access Proposal, what are the problems for threatened and endangered and other imperiled species on BLM lands, and election of new officers.

Dated: July 30, 2004.
Linda S.C. Rundell,
State Director.

[FR Doc. 04-17977 Filed 8-5-04; 8:45 am]

BILLING CODE 4310-FB-M